INTERNATIONAL TRADE COMMISSION

[USITC SE-10-025]

Government in the Sunshine Act Meeting Notice

Agency Holding the Meeting: United States International Trade Commission.

Time and Date: August 12, 2010 at 11 a.m.

Place: Room 101, 500 E Street, SW., Washington, DC 20436. Telephone: (202) 205-2000.

Status: Open to the public.

Matters to be Considered: 1. Agenda for future meetings: none.

2. Minutes.

3. Ratification List.

4. Inv. Nos. 701-TA-467 and 731-TA-1164-1165 (Final) (Narrow Woven Ribbons with Woven Selvedge from China and Taiwan)—briefing and vote. (The Commission is currently scheduled to transmit its determinations and Commissioners' opinions to the Secretary of Commerce on or before August 25, 2010.)

5. Outstanding action jackets:

(1.) Document No. GC-10-115 concerning Inv. No. 337-TA-602 (Certain GPS Devices and Products Containing Same).

In accordance with Commission policy, subject matter listed above, not disposed of at the scheduled meeting, may be carried over to the agenda of the following meeting.

By order of the Commission:
Issued: August 5, 2010.
William R. Bishop,
Hearings and Meetings Coordinator.

[FR Doc. 2010-19736 Filed 8-5-10; 4:15 pm]

BILLING CODE 7020-02-P